FEDERAL COMMUNICATIONS COMMISSION

[OMB 3060-0110]

Information Collection Being Reviewed by the Federal Communications Commission

AGENCY: Federal Communications Commission.

ACTION: Notice and request for comments.

SUMMARY: As part of its continuing effort to reduce paperwork burdens, and as required by the Paperwork Reduction Act (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written comments should be submitted on or before June 16, 2017. If you anticipate that you will be submitting comments, but find it difficult to do so within the period of time allowed by this notice, you should advise the contacts below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION:

OMB Control Number: 3060-0110.

Title: Application for Renewal of Broadcast Station License, FCC Form 303-S; Section 73.3555(d), Daily Newspaper Cross-Ownership.

Form Number: FCC Form 303-S.

Type of Review: Revision of a currently approved collection.

Respondents: Business or other for profit entities; Not for profit institutions; State, Local or Tribal Governments.

Number of Respondent and Responses: 4,023 respondents, 4,023 responses.

Obligation to Respond: Required to obtain benefits—Statutory authority for this collection of information is contained in Sections 154(i), 303, 307 and 308 of the Communications Act of 1934, as amended, and Section 204 of the Telecommunications Act of 1996.

Estimated Time per Response: 1.25-12 hours.

Frequency of Response: Every eight year reporting requirement; Third party disclosure requirement.

Total Annual Burden: 10,797 hours.

Total Annual Costs: $5,073,271.

Nature of Response: Required to obtain or retain benefits. The statutory authority for the collection is contained Sections 154(i), 303, 307 and 308 of the Communications Act of 1934, as amended, and Section 204 of the Telecommunications Act of 1996.

Nature and Extent of Confidentiality: There is no need for confidentiality with this information collection.

Privacy Act Impact Assessment: No impact(s).

Needs and Uses: FCC Form 303-S is used in applying for renewal of license for commercial or noncommercial AM, FM, TV, FM translator, TV translator, Class A TV, or Low Power TV, and Low Power FM broadcast station licenses. Licensees of broadcast stations must apply for renewal of their licenses every eight years. The Commission is revising this collection to reflect the adoption of a Report and Order (“R&O”) in MB Docket No. 16-161, FCC 17-3, In the Matter of Revisions to Public Inspection File Requirements—Broadcaster Correspondence File and Cable Principal Headend Location, adopted and released on January 31, 2017. The R&O eliminated the requirement that commercial TV stations retain in their public inspection file copies of letters and emails from the public. As the Commission noted in the R&O, because commercial TV licensees will no longer be required to maintain correspondence under our rules, under the terms of 47 U.S.C. Section 308(d) they also will not be required to file a summary of correspondence received regarding violent programming with their renewal application (FCC Form 303-S). Consistent with this decision, we are revising Form 303-S to remove the references in the form to this requirement.

We are making the following specific changes to FCC Form 303-S:

On page 5 of the form, we are removing item 4 (Violent Programming).

On page 25 of the instructions, we are removing the paragraph titled “Item 4: Violent Programming.”

Federal Communications Commission.
Katura Jackson,
Federal Register Liaison Officer. Office of the Secretary.

[FR Doc. 2017-07664 Filed 4-14-17; 8:45 am]

BILLING CODE 6712-01-P